DEPARTMENT OF HEALTH AND HUMAN SERVICES

Centers for Disease Control and Prevention

Notice of Award of a Single Source Cooperative Agreement to Fund Emory University/International Association of National Public Health

AGENCY: Centers for Disease Control and Prevention (CDC), Department of Health and Human Services (HHS).

ACTION: Notice.

SUMMARY: The Centers for Disease Control and Prevention (CDC), located within the Department of Health and Human Services (HHS), announces the award of approximately $5,000,000 with an expected total funding of approximately $25,000,000 over a 5-year period, to Emory University/International Association of National Public Health. This award will help countries increase surveillance, laboratory, and outbreak response capacity to improve recognition of and respond to health threats.

DATES: The period for this award will be September 30, 2024, through September 29, 2029.

FOR FURTHER INFORMATION CONTACT: Shana Eatman, Centers for Disease Control and Prevention, 1600 Clifton Rd., Atlanta, GA, Telephone: 770-488-3933, Email: DGHPNOFOs@cdc.gov.

SUPPLEMENTARY INFORMATION: The single source award will build on past work by CDC's national public health institutes (NPHIs) Program to support linkages among critical global health security (GHS) functions leading to improved GHS coordination and country led response to threats.

Emory University/International Association of National Public Health is in a unique position to conduct this work, as it will help countries develop a strategic plan aligned with public health priorities, map existing public health functions to identify gaps or ways to improve coordination and linkages, prioritize public health activities to utilize limited resources more effectively, and demonstrate NPHI value by identifying quick wins.

Summary of the Award

Recipient: Emory University/International Association of National Public Health.

Purpose of the Award: The purpose of this award is to implement activities that draw on the recipient's network of NPHIs to strengthen NPHIs globally, to contribute to stronger health system and global health security.

Amount of Award: $5,000,000 in Federal Fiscal Year (FFY) 2024 funds, with a total estimated $25,000,000 for the 5-year period of performance, subject to availability of funds. Please note, Year 1 funding is as follows: $5,000,000 for Core Component 1, $10,000,000 for Approved but Unfunded (ABU) Component 2, and $15,000,000 Component 3 (ABU).

Authority: This program is authorized under section 307 of the Public Health Service Act [42 U.S.C. 242I] and section 301(a) [42 U.S.C. 241(a)] of the Public Health Service Act.

Period of Performance: September 30, 2024, through September 29, 2029.

Dated: May 13, 2024.
Jamie Legier,
Acting Director, Office of Grants Services, Centers for Disease Control and Prevention.

[FR Doc. 2024-11008 Filed 5-17-24; 8:45 am]

BILLING CODE 4163-18-P